DEPARTMENT OF COMMERCE

International Trade Administration

[A-570-601]

Tapered Roller Bearings and Parts Thereof, Finished and Unfinished, From the People's Republic of China: Final Results of New Shipper Reviews

AGENCY: Import Administration, International Trade Administration, Department of Commerce.

ACTION: Notice of final results of new shipper reviews of tapered roller bearings and parts thereof, finished and unfinished, from the People's Republic of China.

SUMMARY: In response to requests from Peer Bearing Company - Changshan and Yantai Timken Company Limited, the Department of Commerce is conducting new shipper reviews of the antidumping duty order on tapered roller bearings and parts thereof, finished and unfinished, from the People's Republic of China. These reviews cover these companies' entries of tapered roller bearings and parts thereof, finished and unfinished, to the United States during the period June 1, 2000 through November 30, 2000 for Yantai Timken Company Limited and June 1, 2000 through January 31, 2001 for Peer Bearing Company - Changshan.

We have determined that, during the periods of review, only Peer Bearing Company - Changshan made sales below normal value. Based on our review of comments received and a reexamination of surrogate value data, we have made certain changes in the margin calculations of the reviewed companies. Consequently, the final results differ from the preliminary results. The final weighted-average dumping margins for these firms are listed below in the section entitled “Final Results of the New Shipper Reviews.” Based on these final results of review, we will instruct the Customs Service to assess antidumping duties based on the difference between the export price and normal value on all appropriate entries.

EFFECTIVE DATE: March 8, 2002.

FOR FURTHER INFORMATION CONTACT: Jarrod Goldfeder or Anthony Grasso, Group 1, Office I, Antidumping/Countervailing Duty Enforcement, Import Administration, International Trade Administration, U.S. Department of Commerce, 14th Street and Constitution Avenue NW, Washington, DC 20230; telephone (202) 482-0189 or (202) 482-3853, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department”) regulations are to 19 CFR Part 351 (2001).

Background

On November 20, 2001, the Department issued the preliminary results of these new shipper reviews of tapered roller bearings and parts thereof, finished and unfinished (“TRBs”) from the People's Republic of China (“PRC”). See Tapered Roller Bearings and Parts Thereof, Finished and Unfinished, From the People's Republic of China: Preliminary Results of New Shipper Reviews, 66 FR 59569 (November 29, 2001) (“Preliminary Results”). These new shipper reviews cover Yantai Timken Company Limited (“Yantai Timken”) and Peer Bearing Company - Changshan (“CPZ”). The periods of review (“PORs”) are (1) for Yantai Timken, June 1, 2000 through November 30, 2000, and (2) for CPZ, June 1, 2000 through January 31, 2001. See Preliminary Results, 66 FR at 59569.

We invited parties to comment on the Preliminary Results. On January 18, 2002, we received case briefs from the Timken Company (“the petitioner” or “Timken”), Yantai Timken, and CPZ. On January 25, 2002, these parties all filed rebuttal briefs. At the request of Yantai Timken and CPZ, we held a hearing on January 31, 2002.

On February 19, 2002, we postponed the final results to not later than March 5, 2002, in accordance with section 751(a)(2)(B)(iv) of the Act. See 67 FR 8937 (February 27, 2002).

Scope of the Order

Merchandise covered by this order includes tapered roller bearings and parts thereof, finished and unfinished, from the People's Republic of China (“PRC”); flange, take up cartridge, and hanger units incorporating tapered roller bearings; and tapered roller housings (except pillow blocks) incorporating tapered rollers, with or without spindles, whether or not for automotive use. This merchandise is currently classifiable under Harmonized Tariff Schedule of the United States (“HTSUS”) item numbers 8482.20.00, 8482.91.00.50, 8482.99.30, 8483.20.40, 8483.20.80, 8483.30.80, 8483.90.20, 8483.90.30, 8483.90.80, 8708.99.80.15, and 8708.99.80.80. Although the HTSUS item numbers are provided for convenience and customs purposes, the written description of the scope of the order and this review is dispositive.

Analysis of Comments Received

All issues raised in the case and rebuttal briefs by parties to these new shipper reviews are addressed in the “Issues and Decision Memorandum” (“Decision Memo”) from Richard W. Moreland, Deputy Assistant Secretary, Import Administration, to Faryar Shirzad, Assistant Secretary for Import Administration, dated February 19, 2002, which is hereby adopted by this notice. A list of the issues that parties have raised and to which we have responded, all of which are in the Decision Memo, is attached to this notice as an Appendix. Parties can find a complete discussion of all issues raised in this review and the corresponding recommendations in this public memorandum, which is on file in the Central Records Unit, room B-099 of the main Department building. In addition, a complete version of the Decision Memo can be accessed directly on the Web at http://ia.ita.doc.gov/frn/summary/list.htm. The paper copy and electronic version of the Decision Memo are identical in content.

Changes Since the Preliminary Results

Based on our review of comments received and a reexamination of surrogate value data, we have made certain changes to the calculations for the final results. These changes are discussed in the Decision Memo or in the referenced final calculation memoranda for particular companies:

Both Companies

In the Preliminary Results, we adjusted the Japanese export data used to value the cup and cone steel inputs in order to reflect Indian imported steel values, which would assuredly include movement expenses. For the final results, we calculated a value for ocean freight for shipments made between Japan and India based on November 2001 rate quotes from Maersk Inc. submitted by Yantai Timken in its 20-day factual submission made on January 10, 2002. We adjusted this data to account for the marine insurance costs excluded from the rate quote and to make it contemporaneous with the current PORs. See Decision Memo, Comment 4.

From the Indian import data used to calculate the surrogate value used for pallets, we omitted those countries that had imports of small quantities. See Decision Memo, Comment 3.

Yantai Timken

For the final results, we relied upon Yantai Timken's submitted databases that reflect changes it made based on our findings at the U.S. verification of Yantai Timken's questionnaire response.

CPZ

For the final results, we corrected the calculation of CPZ's inventory carrying costs in order to reflect the revised short-term interest rate, as noted in the memorandum to John Brinkmann, “Peer Bearing Company - Changshan Verification Report,” dated October 3, 2001. Also, we revised upwards CPZ's reported U.S. indirect selling expense ratio to account for administrative expenses. See Decision Memo, Comment 5.

Final Results of the New Shipper Reviews

We determine that the following dumping margins exist for the periods June June 1, 2000 through November 30, 2000 for Yantai Timken, and June 1, 2000 through January 1, 2001 for CPZ:

Exporter/­manufacturer | Weighted-average ­margin percentage
CPZ | 12.25
Yantai Timken | 0

Assessment Rates

Pursuant to 19 CFR 351.212(b), the Department calculates an assessment rate for each importer of the subject merchandise. Because certain importer-specific assessment rates calculated in these final results are above de minimis (i.e., at or above 0.5 percent), the Department will issue appraisement instructions directly to the Customs Service to assess antidumping duties on appropriate entries by applying the assessment rate to the entered value of the merchandise. For assessment purposes, we calculate importer-specific assessment rates for the subject merchandise by aggregating the dumping duties due for all U.S. sales to each importer and dividing the amount by the total entered value of the sales to that importer.

Cash Deposit Requirements

The following cash deposit requirements will be effective upon publication of the final results of these new shipper reviews for all shipments of the subject merchandise entered, or withdrawn from warehouse, for consumption on or after the publication date, as provided for by section 751(a)(1) of the Act: (1) for the PRC companies named above, the cash deposit rates will be the rates for these firms established in the final results of this review, except that, for exporters with de minimis rates (i.e., less than 0.5 percent) no deposit will be required; (2) for previously-reviewed PRC and non-PRC exporters with separate rates, the cash deposit rate will be the company-specific rate established for the most recent period during which they were reviewed; (3) for all other PRC exporters, the rate will be the PRC country-wide rate, which is 33.18 percent; and (4) for all other non-PRC exporters of subject merchandise from the PRC, the cash deposit rate will be the rate applicable to the PRC supplier of that exporter. These deposit requirements, when imposed, shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.We are issuing and publishing this determination and notice in accordance with sections 751(a)(2)(B) and 777(i)(1) of the Act.

February 28, 2002
Faryar Shirzad,
Assistant Secretary for Import Administration.

APPENDIX

List of Comments and Issues in the Decision Memorandum

Comment 1: Market Economy Steel Values

Comment 2:Rescission of Yantai Timken's New Shipper Review

Comment 3: Surrogate Value for Pallets and Other Factors

Comment 4: Adding Ocean Freight and Marine Insurance to the Japanese Exports to India Data

Comment 5: CPZ's Indirect Selling Expenses

Comment 6: CPZ's Post-Sale Warehousing Expenses

Comment 7: Price of CPZ's Sample Sale

Comment 8: CPZ's Credit Expense

Comment 9: CPZ's Inventory Carrying Cost

[FR Doc. 02-5659 Filed 3-7-02; 8:45 am]

BILLING CODE 3510-DS-S